ENVIRONMENTAL PROTECTION AGENCY

[FRL-7799-1]

Clean Water Act Section 303(d): Availability of EPA's Decision To Add Waters and Pollutants to Colorado's 2004 List

AGENCY: Environmental Protection Agency (EPA).

ACTION: Notice of availability.

SUMMARY: Region VIII of the EPA is hereby providing notice, and requesting public comment on EPA's decision to identify additional water quality limited segments and associated pollutants in Colorado to be listed pursuant to Clean Water Act section 303(d)(2). Section 303(d)(2) of the Clean Water Act requires that states submit and EPA approve or disapprove lists of waters for which existing technology-based pollution controls are not stringent enough to attain or maintain state water quality standards and for which total maximum daily loads (TMDLs) must be prepared.

On July 26, 2004, EPA partially approved and partially disapproved Colorado's section 303(d) list submittal for the 2004 listing cycle. Specifically, EPA approved Colorado's listing of 117 waters, associated pollutants, and associated priority rankings. EPA disapproved Colorado's decisions not to list six waterbodies and associated pollutants and one pollutant for a waterbody already listed by the State. EPA identified these additional water bodies and pollutants along with priority rankings for inclusion on the year 2004 section 303(d) list.

EPA is providing the public the opportunity to review its decisions to add waters and pollutants (shown in Table 1) to Colorado's 2004 section 303(d) list, as required by EPA's Public Participation regulations (40 CFR part 25). EPA will consider public comments in reaching its final decisions on the additional water bodies and pollutants identified for inclusion on Colorado's list.

DATES: Comments must be submitted to EPA on or before September 20, 2004.

ADDRESSES: Comments on the proposed decisions should be sent to Kathryn Hernandez, TMDL Team (8EPR-EP), U.S. Environmental Protection Agency Region VIII, 999 18th Street, Suite 300, Denver, CO 80202-2466, telephone (303) 312-6101, facsimile (303) 312-6339, e-mail hernandez.kathryn@epa.gov. Oral comments will not be considered. Copies of EPA's decision concerning Colorado's list that explain the rationale for EPA's decisions can be obtained at EPA Region VIII's Web site at http://www.epa.gov/region08/water/tmdl, or by writing or calling Ms. Hernandez at the above address. The full administrative record containing background technical information is on file and may be inspected at the U.S. EPA, Region VIII Technical Library found in the Environmental Information Service Center (EISC). The Library and Service Center are located on the ground floor at Denver Place, 999 18th Street, Denver Colorado. The Library is open to the public from 10 a.m. to 4 p.m. The Library can be contacted by calling the Service Center at (303) 312-6312 or (800) 227-8917. Arrangements to examine the administrative record may also be made by contacting Kathryn Hernandez.

FOR FURTHER INFORMATION CONTACT: Kathryn Hernandez at (303) 312-6101 or Bruce Zander (TMDL Coordinator) at (303) 312-6846 or zander.bruce@epa.gov.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of section 303(d) of the CWA (40 CFR 130.7). The regulations require states to identify water quality limited waters still requiring TMDLs every two years. The lists of waters still needing TMDLs must also include priority rankings, identify the pollutants causing the impairment, and must identify the waters targeted for TMDL development during the next two years (40 CFR 130.7).

Consistent with EPA's regulations, Colorado submitted to EPA its listing decisions under section 303(d)(2) on March 18, 2004. On July 26, 2004, EPA approved Colorado's listing of 117 waters and associated priority rankings. EPA disapproved Colorado's decisions not to list six water quality limited segments and associated pollutants as well as one pollutant for a segment already on the State's list. EPA identified these additional waters and pollutants along with priority rankings for inclusion on the 2004 section 303(d) list. EPA solicits public comment on its identification of the additional waters, associated pollutants and priority rankings, for inclusion on Colorado's 2004 section 303(d) list.

Table 1.—List of Waters and Pollutants for Addition to Colorado's 2004 CWA Section 303(d) List
Waterbody description | Pollutant(s) | Water quality standard not met | Priority ranking
Red Mountain Creek (from East Fork of Red Mountain Creek to Uncompahgre River) Segment COGUUN06b | Copper, lead, zinc | Aquatic life use | Low.
West Fork of Clear Creek (from Woods Creek to Clear Creek mainstem) Segment COSPCL05 | Zinc | Zinc numeric standard (acute) for aquatic life use | Low.
Middle South Platte River (from Big Dry Creek to Highway 60) Segment COSPMS01 | Dissolved oxygen | Dissolved oxygen numeric standard for aquatic life use | Low.
Blue River Tributaries (Camp Creek, Jones Gulch) Segment COUCBL06 | pH | pH numeric standard for aquatic life use | Low.
Blue River Tributaries (Keystone Gulch, Mozart Creek) Segment COUCBL08 | pH | pH numeric standard for aquatic life use | Low.
Bear Creek (from Evergreen Lake to Harriman Ditch) Segment COSPBE01 | Temperature | Aquatic life use | Low.
Dolores River (from below McPhee Reservoir to Bradfield Ranch Bridge) Segment COSJDO04 | Unknown | Aquatic life use | Low.

Authority: Clean Water Act, 33 U.S.C. 1251 et seq.

Dated: July 30, 2004.
Max H. Dodson,
Assistant Regional Administrator, Office of Ecosystems Protection and Remediation.

[FR Doc. 04-18027 Filed 8-5-04; 8:45 am]

BILLING CODE 6560-50-P